DEPARTMENT OF DEFENSE

Office of the Secretary

Submission for OMB Review; Comment Request

ACTION: Notice.

The Department of Defense has submitted to OMB for clearance, the following proposal for collection of information under the provisions of the Paperwork Reduction Act (44 U.S.C. Chapter 35).

DATES: Consideration will be given to all comments received by August 4, 2005.

Title and OMB Number: Department of Defense Education Activity (DoDEA) Customer Satisfaction Surveys; OMB Number 0704-0421.

Type of Request: Revision.

Number of Respondents: 7,283.

Responses Per Respondent: 1.

Annual Responses: 7,283.

Average Burden Per Response: 16.7 minutes (average).

Annual Burden Hours: 2,025.

Needs and Uses: The DoDEA Customer Satisfaction Surveys are needed to measure the satisfaction level with the programs and services provided by DoDEA, as required by the DoDEA Community Strategic Plan. Some of the topics included are curriculum, communication, and technology. The information derived from these surveys will be used to improve planning efforts at all levels throughout DoDEA.

Affected Public: Individuals or households.

Frequency: Biennially.

Respondent's Obligation: Voluntary.

OMB Desk Officer: Mr. Lewis Oleinick. Written comments and recommendations on the proposed information collection should be sent to Mr. Oleinick at the Office of Management and Budget, Desk Officer for DoD, Room 10236, New Executive Office Building, Washington, DC 20503.

DOD Clearance Officer: Ms. Patricia Toppings. Written requests for copies of the information collection proposal should be sent to Ms. Toppings, WHS/ESD/Information Management Division, 1225 South Clark Street, Suite 504, Arlington, VA 22202-4326.

Dated: June 27, 2005.
Patricia L. Toppings,
Alternate OSD Federal Register Liaison Officer, Department of Defense.

[FR Doc. 05-13103 Filed 7-1-05; 8:45 am]

BILLING CODE 5001-06-M